FEDERAL COMMUNICATIONS COMMISSION

47 CFR Part 90

[WT Docket Nos. 12-64 and 11-110; Report No. 2959]

Petition for Reconsideration of Action in Rulemaking Proceeding; Correction

AGENCY: Federal Communications Commission.

ACTION: Petition for reconsideration; correction.

SUMMARY: The Federal Communications Commission published a summary in the Federal Register of August 31, 2012, regarding a Petition for Reconsideration filed in a rulemaking proceeding. The summary included the incorrect deadline for filing replies to an opposition to the Petition. This document revises the deadline for replies to an opposition to the Petition.

DATES: Oppositions to the Petition must be filed on or before September 17, 2012. Replies to an opposition must be filed on or before September 27, 2012.

FOR FURTHER INFORMATION CONTACT: Brian Regan, Mobility Division, Wireless Telecommunications Bureau, brian.regan@fcc.gov <mailto:brian.regan@fcc.gov>, (202) 418-2849.

SUPPLEMENTARY INFORMATION: The Federal Communications Commission (FCC) published a summary of a Petition for Reconsideration of a rulemaking proceeding in the Federal Register at 77 FR 53163, August 31, 2012. The deadlines for filing oppositions to the Petition and replies to oppositions to the Petition were listed in the summary. The deadline in the summary for replies to an opposition is incorrect.

In the summary published in 77 FR 53163 on August 31, 2012, in FR Doc. No. 2012-21478, make the following correction. On page 53163, in the third column, correct the second sentence in the DATES section to read: Replies to an opposition must be filed on or before September 27, 2012.

Federal Communications Commission.
Gloria J. Miles,
Federal Register Liaison, Office of the Secretary, Office of Managing Director.

[FR Doc. 2012-22562 Filed 9-12-12; 8:45 am]

BILLING CODE 6712-01-P